DEPARTMENT OF ENERGY

Federal Energy Regulatory Commission

[Docket No. RP04-352-000]

Southern Natural Gas Company; Notice of Proposed Changes in FERC Gas Tariff

July 8, 2004.

Take notice that on June 30, 2004, Southern Natural Gas Company (Southern) tendered for filing as part of its FERC Gas Tariff, Seventh Revised Volume No. 1, the following revised sheets to become effective August 1, 2004:

Sixty-first Revised Sheet No. 14

Eighty-second Revised Sheet No. 15

Sixty-first Revised Sheet No. 16

Eighty-second Revised Sheet No. 17

Forty-fifth Revised Sheet No. 18

Twelfth Revised Sheet No. 22, and

Third Revised Sheet No. 196.

Southern states that the proposed tariff sheets reflect the discontinuation of the GRI Surcharge pursuant to the Gas Research Institute (GRI) Settlement August 1, 2004. In addition, Southern further states that they propose to continue to collect voluntary R&D contributions after the discontinuance of the GRI Surcharge.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1538 Filed 7-13-04; 8:45 am]

BILLING CODE 6717-01-P